DEPARTMENT OF COMMERCE

National Oceanic and Atmospheric Administration

Evaluation of State Coastal Management Program; Public Meeting; Request for Comments; Correction

AGENCY: Office for Coastal Management, National Ocean Service, National Oceanic and Atmospheric Administration, Department of Commerce.

ACTION: Notice of public meeting and opportunity to comment; correction.

SUMMARY: The National Oceanic and Atmospheric Administration (NOAA), Office for Coastal Management, published a document in the Federal Register of August 5, 2022, concerning a notice of public meeting to solicit comments on the performance evaluation of the Connecticut Coastal Management Program. The document contained incorrect dates.

FOR FURTHER INFORMATION CONTACT: Ralph Cantral, Evaluator, NOAA Office for Coastal Management, by email at Ralph.Cantral@noaa.gov or by phone at (843) 474-1357.

SUPPLEMENTARY INFORMATION:

Correction: In the Federal Register of August 5, 2022, 87 FR 47984, correct the DATES caption to read:

DATES: NOAA will consider all written comments received by Friday, October 7, 2022. A virtual public meeting will be held on Wednesday, September 28, 2022, at 6:30 p.m. Eastern Time (ET).

Correction: In the Federal Register of August 5, 2022, 87 FR 47984, correct the “Public Meeting” caption to read:

Public Meeting: Provide oral comments during the public meeting on Wednesday, September 28, 2022, at 6:30 p.m. ET at the Meigs Point Nature Center meeting room at Hammonasset Beach State Park, 1288 Boston Point Road, Madison, Connecticut 06443.

Written comments received are considered part of the public record, and the entirety of the comment, including the email address, attachments, and other supporting materials, will be publicly accessible. Sensitive personal information, such as account numbers, Social Security numbers, or names of individuals, should not be included with the comment. Comments that are not responsive or that contain profanity, vulgarity, threats, or other inappropriate language will not be considered.

Keelin Kuipers,
Deputy Director, Office for Coastal Management, National Ocean Service, National Oceanic and Atmospheric Administration.

[FR Doc. 2022-20081 Filed 9-15-22; 8:45 am]

BILLING CODE 3510-JE-P